DEPARTMENT OF HEALTH AND HUMAN SERVICES

Centers for Disease Control and Prevention

[60Day-24-0234; Docket No. CDC-2024-0068]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled the National Ambulatory Medical Care Survey (NAMCS). The goal of the project is to assess the health of the population through patient use of physician and advanced practice provider offices, health centers (HCs), and to monitor the characteristics of physician and advanced practice provider practices.

DATES: CDC must receive written comments on or before November 19, 2024.

ADDRESSES: You may submit comments, identified by Docket No. CDC-2024-0068 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and.

5. Assess information collection costs.

Proposed Project

National Ambulatory Medical Care Survey (NAMCS) (OMB Control No. 0920-0234, Exp. 11/30/2025)—Revision—National Center for Health Statistics (NCHS), Centers for Disease Control and Prevention (CDC).

Background and Brief Description

The National Ambulatory Medical Care Survey (NAMCS) was conducted intermittently from 1973 through 1985, and annually since 1989. The survey is conducted under authority of Section 306 of the Public Health Service Act (42 U.S.C. 242k). NAMCS is part of the ambulatory care component of the National Health Care Surveys (NHCS), a family of provider-based surveys that capture health care utilization from a variety of settings, including hospital inpatient and long-term care facilities. NCHS surveys of health care providers include NAMCS, the National Electronic Health Records Survey (NEHRS) (OMB Control No. 0920-1015, Exp. Date 01/31/2027), the National Hospital Care Survey (NHCS) (OMB Control No. 0920-0212, Exp. Date 12/31/2024), and National Post-acute and Long-term Care Study (OMB Control No. 0920-0943, Exp. Date 09/30/2025).

An overarching purpose of NAMCS is to meet the needs and demands for statistical information about the provision of ambulatory medical care services in the United States; this fulfills one of NCHS' missions: to monitor the nation's health. In addition, NAMCS provides ambulatory medical care data to study: (1) the performance of the U.S. health care system; (2) care for the rapidly aging population; (3) changes in services such as health insurance coverage change; (4) the introduction of new medical technologies; and (5) the use of electronic health records (EHRs). Ongoing societal changes have led to considerable diversification in the organization, financing, and technological delivery of ambulatory medical care. This diversification is evidenced by the proliferation of insurance and benefit alternatives for individuals, the development of new forms of physician group practices and practice arrangements (such as office-based practices owned by hospitals), the increasing role of advanced practice providers delivering clinical care, and growth in the number of alternative sites of care.

Ambulatory services are rendered in a wide variety of settings, including physician/provider offices and hospital outpatient and emergency departments. Since more than 65% of ambulatory medical care visits occur in physician offices, NAMCS provides data on the majority of ambulatory medical care services. In addition to health care provided in physician offices and outpatient and emergency departments, health centers (HCs) play an important role in the health care community by providing care to people who might not be able to afford it, otherwise. HCs are local, non-profit, community-owned health care settings, which serve approximately over 30 million individuals throughout the United States.

This revision seeks approval to conduct changes to all three components of NAMCS. CDC plans to adjust the HC Component and Provider Survey Component sample sizes. In 2025 the goal is to sample 10,000 advanced practice providers and up to 151 HCs. In 2026 we plan to sample up to 10,000 physicians and up to 171 HCs if funds allow. If funds allow, in 2027 we will sample up to 10,000 advanced practice providers and up to 191 HCs. For 2025-2027, there will be an additional 3,000 providers sampled yearly for the Provider Electronic Component. Questions on the Provider Facility Interview, Health Center Facility Interview, and the Ambulatory Care Provider Interview will also be modified.

CDC requests OMB approval for an estimated 22,107 annual burden hours. There is no cost to respondents other than their time to participate.

Estimated Annualized Burden Hours
Type of respondents | Form name | Number of respondents | Number of responses per respondent | Avg. burden per response (in hrs.) | Total burden (in hrs.)
HC's Staff | HC Facility Interview Questionnaire (Survey year: 2024) | 84 | 1 | 45/60 | 63
| Prepare and transmit EHR for Visit Data (quarterly) (Survey year: 2024) | 50 | 4 | 60/60 | 200
| Set-up Fee Questionnaire (Survey year: 2024) | 17 | 1 | 15/60 | 4
Provider or Staff | ACPI (Survey year: 2026) | 3,333 | 1 | 30/60 | 1,667
| Contact Tracing (Survey year: 2026) | 3,333 | 1 | 10/60 | 556
Advanced Practice Provider or Staff | ACPI (Survey year: 2025 & 2027) | 6,667 | 1 | 30/60 | 3,334
| Contact Tracing (Survey year: 2025 & 2027) | 6,667 | 1 | 10/60 | 1,111
Ambulatory Care Provider's or Group's or Conglomerate's Staff | PFI (Survey year: 2025-2027) Prepare and transmit Electronic Visit Data (quarterly) (Survey year: 2025-2027) | 3,000 3,000 | 1 4 | 45/60 60/60 | 2,250 12,000
HC's Staff | HC Facility Interview Questionnaire (Survey year: 2025-2027) | 221 | 1 | 45/60 | 166
| Prepare and transmit EHR for Visit Data (quarterly) (Survey year: 2025-2027) | 188 | 4 | 60/60 | 752
| Set-up Fee Questionnaire (Survey year: 2025-2027) | 17 | 1 | 15/60 | 4
Total |  |  |  |  | 22,107

Jeffrey M. Zirger,
Lead, Information Collection Review Office, Office of Public Health Ethics and Regulations, Office of Science, Centers for Disease Control and Prevention.

[FR Doc. 2024-21573 Filed 9-19-24; 8:45 am]

BILLING CODE 4163-18-P